DEPARTMENT OF THE INTERIOR

Fish and Wildlife Service

[Docket No. FWS-R6-ES-2018-0075; FF06E23000-189-FXES11140600000]

Endangered and Threatened Wildlife and Plants; Wayne County, Utah, Incidental Take Permit Application; Range-Wide General Conservation Plan for Utah Prairie Dog

AGENCY: Fish and Wildlife Service, Interior.

ACTION: Notice of availability; request for public comments.

SUMMARY: We, the U.S. Fish and Wildlife Service (Service), announce the availability of several documents related to an incidental take permit (ITP) application under the Endangered Species Act. If approved, the permit would authorize Wayne County, Utah, to incidentally take Utah Prairie Dogs through under an existing Range-wide General Conservation Plan for Utah Prairie Dogs (GCP). We provide this notice to seek comments from the public and Federal, Tribal, State, and local governments.

DATES: We will accept comments received or postmarked on or before November 28, 2018. Comments submitted electronically using regulations.gov (see ADDRESSES) must be received by 11:59 p.m. eastern time on the closing date.

ADDRESSES:

Obtaining Documents:

• Internet: You may obtain copies of the application and related documents, as well as any comments and other materials that we receive, in Docket No. FWS-R6-ES-2018-0075 at http://www.regulations.gov.

• U.S. Mail: Copies of the application and related documents are available from the U.S. Fish and Wildlife Service, Utah Ecological Services Field Office, 2369 W Orton Circle, #50, West Valley City, UT 84119. Please note that your request is in reference to the “Wayne County, UT, ITP.”

• In-person: Copies of the application and related documents will also be available for public inspection by appointment (call 801-975-3330) during normal business hours at the Utah Ecological Services Field Office (address above).

Submitting Comments: You may submit comments by one of the following methods. Please specify that your comments are regarding the “Wayne County, UT, ITP.”

• Online: http://www.regulations.gov. Follow the instructions for submitting comments on Docket No. FWS-R6-ES-2018-0075.

• U.S. mail or hand-delivery: Public Comments Processing, Attn: Docket No. FWS-R6-ES-2018-0075; U.S. Fish and Wildlife Service; MS: BPHC; 5275 Leesburg Pike, Falls Church, VA 22041-3803.

We request that you send comments by only the methods described above. We will post all comments on http://www.regulations.gov. This generally means that we will post any personal information you provide (see Public Comments under SUPPLEMENTARY INFORMATION).

FOR FURTHER INFORMATION CONTACT: Laura Romin, 801-975-3330, ext. 142 (phone), or laura_romin@fws.gov (email). If you use a telecommunications device for the deaf, hard-of-hearing, or speech disabled, please call the Federal Relay Service at 800-877-8339.

SUPPLEMENTARY INFORMATION: We, the U.S. Fish and Wildlife Service (Service), announce the availability of an incidental take permit application from Wayne County, Utah. The permit would allow Wayne County to be a master permit holder under the Service's Utah prairie dog General Conservation Plan (GCP) (see Background). The Endangered Species Act, as amended (ESA; 16 U.S.C. 1531 et seq.) and our implementing regulations in part 17 of title 50 of the Code of Federal Regulations (CFR), provide for the issuance of such permits and require that we invite public comment before issuing permits for activities involving endangered or threatened species.

Background

Section 9 of the ESA and its implementing regulations prohibit take of fish and wildlife species listed as endangered or threatened (16 U.S.C. 1538). Under section 3 of the ESA, the term “take” means to “harass, harm, pursue, hunt, shoot, wound, kill, trap, capture, or collect, or attempt to engage in any such conduct” (16 U.S.C. 1532(19)).

Under section 10(a) of the ESA, the Service may issue permits to authorize incidental take of listed fish and wildlife species. “Incidental take” is defined by the ESA as take that is incidental to, and not the purpose of, carrying out an otherwise lawful activity. Section 10(a)(1)(B) of the ESA contains provisions for issuing incidental take permits to non-Federal entities for the incidental take of endangered and threatened species, provided in part that a conservation plan is developed and implemented. Regulations governing permits for listed fish and wildlife species are at 50 CFR 17.22.

In April 2018, the Service completed a GCP to provide a streamlined mechanism for authorizing incidental take of Utah prairie dogs that may result from residential and commercial development activities across the range of the species in central and southwest Utah. The GCP fulfilled requirements of the ESA for issuing permits to authorize take of Utah prairie dogs incidental to development activities. The GCP includes measures to minimize and mitigate the impacts of the take; these measures include prairie dog translocations, habitat and plague management at translocation sites, and the protection of occupied Utah prairie dog habitats, all of which are consistent with our recovery objectives for this species.

The GCP operates under either of two permitting structures: (1) Master permits and (2) individual permits. Wayne County's permit application is for a master permit. Under the master permit structure, project proponents would contact Wayne County (i.e., master permit holder) for a certificate of inclusion. Wayne County would provide take authorization for Utah prairie dogs through the certificates of inclusion to project proponents who agree to adhere to the conditions of the GCP and the county's master permit.

We previously issued master permits under the GCP to Iron, Beaver, and Garfield Counties. We propose, at this time, to issue a 10-year master permit for incidental take of the Utah prairie dog in Wayne County, if Wayne County's application demonstrates commitments to implement the requirements of the GCP, thereby meeting all ESA section 10(a)(1)(B) permit issuance criteria.

Public Comments

We request information, views, and opinions from the public specifically on our proposed Federal action, the issuance of a master incidental take permit to Wayne County. Written comments received become part of the public record associated with this action. Before including your address, phone number, email address, or other personal identifying information in your comment, you should be aware that your entire comment—including your personal identifying information—may be made publicly available at any time. While you may request in your comment that we withhold your personal identifying information from public review, we cannot guarantee that we will be able to do so. All submissions from organizations or businesses and from individuals identifying themselves as representatives or officials of organizations or businesses will be made available for public disclosure in their entirety.

Authority

We provide this notice under section 10(c) of the ESA (16 U.S.C. 1531 et seq.) and its implementing regulations for incidental take permits (50 CFR 17.22).

Dated: August 9, 2018.
Laura Romin,
Utah Deputy Field Supervisor, Mountain-Prairie Region, U.S. Fish and Wildlife Service, Salt Lake City, Utah.

[FR Doc. 2018-23566 Filed 10-26-18; 8:45 am]

BILLING CODE 4333-15-P